Proclamation 9722 of April 6, 2018

National Former Prisoner of War Recognition Day, 2018

By the President of the United States of America

A Proclamation

Since the days of the American Revolution, brave men and women have selflessly answered the call to protect and defend our great Nation. During the conflicts of the past two centuries, more than 500,000 United States service members have been captured and held as prisoners of war (POWs). National Former Prisoner of War Recognition Day honors these American patriots, who each paid an extraordinary price to help preserve our liberty.

This year commemorates several significant military anniversaries, including the centennial observance of the Armistice that ended World War I, the 75th anniversary of the Battle of Kasserine Pass in World War II, the 65th anniversary of the Korean Armistice Agreement, the 50th anniversary of the Vietnam War's Tet Offensive, and the 25th anniversary of the Battle of Mogadishu. Enemy forces captured and imprisoned American service members during each of these conflicts. During these battles, as with those throughout our Nation's history, military personnel carried out their missions undaunted by risk of capture or loss of life, because of their love for each other and their devotion to the principles of duty, honor, and justice.

On this day, we pay homage to the courageous warriors who endured time in enemy hands and returned with honor to their families. During their capture, they faced loneliness, torture, hardship, separation from loved ones, and uncertainty about the future. In spite of unimaginable tribulations, these patriots persevered and survived. They are American heroes.

Former POWs remain actively engaged in communities throughout our country. Their efforts help fellow veterans and their families cope with life after military service. In addition, their stories are a source of inspiration for current and future generations. Former POWs and loved ones of military personnel who have not returned from past conflicts share a unique connection. Few people can comprehend the emotional toll, the loss, and the pain of uncertainty the families of the fallen or captured endure better than former POWs. Their encouragement, understanding, and outreach helps ensure that their fallen and unaccounted-for comrades are not forgotten.

As President, I remain committed to honoring and caring for former POWs. They have persevered through the harshest of conditions and, thankfully, have returned home to their loving families and a grateful Nation. They deserve our utmost reverence and respect.

NOW, THEREFORE, I, DONALD J. TRUMP, President of the United States of America, by virtue of the authority vested in me by the Constitution and the laws of the United States, do hereby proclaim April 9, 2018, as National Former Prisoner of War Recognition Day. I call upon Americans to observe this day by honoring the service and sacrifice of all our former prisoners of war and to express our Nation's eternal gratitude for their sacrifice. I also call upon Federal, State, and local government officials and organizations to observe this day with appropriate ceremonies and activities.

IN WITNESS WHEREOF, I have hereunto set my hand this sixth day of April, in the year of our Lord two thousand eighteen, and of the Independence of the United States of America the two hundred and forty-second.

[FR Doc. 2018-07775

Filed 4-11-18; 8:45 am]

Billing code 3295-F8-P